DEPARTMENT OF COMMERCE

International Trade Administration

[A-570-890]

Wooden Bedroom Furniture From the People's Republic of China: Preliminary Results of Antidumping Duty Administrative Review and Preliminary Determination of No Shipments in Part; 2015

AGENCY: Enforcement and Compliance, International Trade Administration, Department of Commerce.

SUMMARY: In response to requests from interested parties, the Department of Commerce (“the Department”) is conducting the eleventh administrative review (“AR”) of the antidumping duty order on wooden bedroom furniture (“WBF”) from the People's Republic of China (“PRC”). The period of review (“POR”) is January 1, 2015, through December 31, 2015. This AR covers 18 companies. The Department has preliminarily determined that seven of the 18 companies, including the sole mandatory respondent, have not established their entitlement to a separate rate and are part of the PRC-wide entity. The Department has also preliminarily determined that the remaining 11 companies had no reviewable transactions during the POR. We invite interested parties to comment on these preliminary results.

DATES: Effective October 11, 2016.

FOR FURTHER INFORMATION CONTACT: Patrick O'Connor, AD/CVD Operations, Office IV, Enforcement and Compliance, International Trade Administration, Department of Commerce, 1401 Constitution Avenue NW., Washington, DC 20230; telephone: (202) 482-0989.

SUPPLEMENTARY INFORMATION:

Background

After initiating this review with respect to 141 companies or company groupings,¹ interested parties withdrew all review requests for 123 of the 141 companies.² On June 8, 2016, the Department issued an antidumping duty questionnaire to the sole mandatory respondent in this review, Nantong Wangzhuang Furniture Co., Ltd. (“Nantong Wangzhuang”). Nantong Wangzhuang did not respond to the questionnaire. For a complete description of the events that followed the initiation of this administrative review, see the Preliminary Decision Memorandum which is hereby adopted by this notice.³

¹ See Initiation of Antidumping and Countervailing Duty Administrative Reviews and Request for Revocation in Part, 81 FR 11179 (March 3, 2016) (“Initiation Notice”).

² See Wooden Bedroom Furniture, From the People's Republic of China: Partial Rescission of Antidumping Duty Administrative Review, 81 FR 62083 (September 8, 2016).

³ See “Decision Memorandum for the Preliminary Results of the Antidumping Duty Administrative Review: Wooden Bedroom Furniture from the People's Republic of China,” from Edward Yang, Senior Director, Office VII, to Ronald K. Lorentzen, Acting Assistant Secretary for Enforcement and Compliance (“Preliminary Decision Memorandum”), dated concurrently with this notice.

The Preliminary Decision Memorandum is a public document and is on file electronically via Enforcement and Compliance's Antidumping and Countervailing Duty Centralized Electronic Service System (“ACCESS”). ACCESS is available to registered users at http://access.trade.gov and in the Central Records Unit, room B8024 of the main Department of Commerce building. In addition, a complete version of the Preliminary Decision Memorandum can be accessed directly at http://enforcement.trade.gov/frn/. The signed Preliminary Decision Memorandum and the electronic version of the Preliminary Decision Memorandum are identical in content.

Scope of the Order

The product covered by the order is wooden bedroom furniture, subject to certain exceptions.⁴ Imports of subject merchandise are classified under the Harmonized Tariff Schedule of the United States (“HTSUS”) subheadings: 9403.50.9042, 9403.50.9045, 9403.50.9041, 9403.60.8081, 9403.20.0018, 9403.90.8041, 7009.92.1000 or 7009.92.5000. Although the HTSUS subheadings are provided for convenience and customs purposes, the written product description in the Order remains dispositive.⁵

⁴ See Notice of Amended Final Determination of Sales at Less Than Fair Value and Antidumping Duty Order: Wooden Bedroom Furniture From the People's Republic of China, 70 FR 329 (January 4, 2005) (“Order”).

⁵ For a complete description of the scope of the Order, please see the Preliminary Decision Memorandum.

Methodology

The Department is conducting this review in accordance with section 751(a)(1)(B) of the Tariff Act of 1930, as amended (“the Act”) and 19 CFR 351.213. For a full description of the methodology underlying our preliminary results of review, see the Preliminary Decision Memorandum. A list of topics discussed in the Preliminary Decision Memorandum is provided in Appendix I to this notice.

Preliminary Determination of No Shipments

Because U.S. Customs and Border Protection (“CBP”) did not provide any information contradicting the claims of the 11 companies under review which claimed to have made no shipments, the Department preliminarily determines that these 11 companies did not have any reviewable transactions during the POR.⁶ For additional information regarding this determination, see the Preliminary Decision Memorandum.⁷ Consistent with the Department's practice in non-market economy (“NME”) cases, the Department is not rescinding this AR, in part, with respect to these 11 companies, but intends to complete the review with respect to the companies for which it has preliminarily found no shipments and issue appropriate instructions to CBP based on the final results of the review.⁸

⁶ The 11 companies/company groupings are: (1) Dongguan Sunrise Furniture Co., Ltd., Taicang Sunrise Wood Industry Co., Ltd., Taicang Fairmount Designs Furniture Co., Ltd., Meizhou Sunrise Furniture Co., Ltd.; (2) Eurosa (Kunshan) Co., Ltd., Eurosa Furniture Co., (Pte) Ltd.; (3) Golden Well International (HK) Ltd.; (4) Jiangsu Tairui Structure Engineering Co., Ltd.; (5) Nanhai Jiantai Woodwork Co., Ltd., Fortune Glory Industrial Ltd. (H.K. Ltd.); (6) Rizhao Sanmu Woodworking Co., Ltd.; (7) Shenyang Shining Dongxing Furniture Co., Ltd.; (8) Wanvog Furniture (Kunshan) Co., Ltd.; (9) Woodworth Wooden Industries (Dong Guan) Co., Ltd.; (10) Yeh Brothers World Trade Inc.; and (11) Zhejiang Tianyi Scientific & Educational Equipment Co., Ltd.

⁷ See Preliminary Decision Memorandum.

⁸ See Non-Market Economy Antidumping Proceedings: Assessment of Antidumping Duties, 76 FR 65694, 65694-95 (October 24, 2011) and the “Assessment Rates” section, below.

Preliminary Results of Review

As noted above, Nantong Wangzhuang did not respond to the Department's antidumping duty questionnaire. Therefore, the Department preliminarily determines that Nantong Wangzhuang did not establish its eligibility for separate rate status. In addition, six other companies for which a review was requested failed to provide separate rate applications or certifications.⁹ Therefore, the Department preliminarily determines that these seven companies are part of the PRC-wide entity. The PRC-wide entity rate is 216.01 percent. For additional information regarding this determination, see the Preliminary Decision Memorandum.

⁹ The six companies are: (1) Dongguan Singways Furniture Co., Ltd.; (2) Clearwise Co., Ltd.; (3) Pleasant Wave Ltd., Passwell Corp.; (4) Shanghai JianPu Export & Import Co., Ltd.; (5) Decca Furniture Ltd.; and (6) Hangzhou Cadman Trading Co., Ltd. (Exporter), Haining Changbei Furniture Co., Ltd. (Producer).

Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

Any interested party may request a hearing within 30 days of publication of this notice.¹⁰ Hearing requests should contain the following information: (1) The party's name, address, and telephone number; (2) the number of participants; and (3) a list of the issues to be discussed. Oral presentations at the hearing will be limited to issues raised in the case briefs. If a request for a hearing is made, parties will be notified of the time and date for the hearing to be held at the U.S. Department of Commerce, 1401 Constitution Avenue NW., Washington, DC 20230.¹¹

¹⁰ See 19 CFR 351.310(c).

¹¹ See 19 CFR 351.310(d).

Unless extended, the Department intends to issue the final results of this AR, which will include the results of its analysis of issues raised in any briefs received, within 120 days of publication of these preliminary results, pursuant to section 751(a)(3)(A) of the Act.

Assessment Rates

Upon issuing the final results of this review, the Department will determine, and CBP shall assess, antidumping duties on all appropriate entries covered by this review.¹² The Department intends to issue assessment instructions to CBP 15 days after the publication date of the final results of this review. We intend to instruct CBP to liquidate entries of subject merchandise exported by the PRC-wide entity, including Nantong Wangzhuang and the other six companies noted above which did not qualify for separate rate status, at the PRC-wide rate. Additionally, pursuant to the Department's practice in NME cases, if we continue to determine that the 11 companies noted above had no shipments of subject merchandise, any suspended entries of subject merchandise during the POR under their case numbers will be liquidated at the PRC-wide rate.¹³

¹² See 19 CFR 351.212(b).

¹³ For a full discussion of this practice, see Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by sections 751(a)(2)(C) of the Act: (1) For previously investigated or reviewed PRC and non-PRC exporters that received a separate rate in a prior segment of this proceeding, the cash deposit rate will continue to be the existing exporter-specific rate; (2) for all PRC exporters of subject merchandise that have not been found to be entitled to a separate rate, the cash deposit rate will be the rate for the PRC-wide entity, which is 216.01 percent; and (3) for all non-PRC exporters of subject merchandise which have not received their own rate, the cash deposit rate will be the rate applicable to the PRC exporter that supplied that non-PRC exporter.

These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties. We are issuing and publishing these results in accordance with sections 751(a)(1) and 777(i)(1) of the Act and 19 CFR 351.213.

Dated: October 3, 2016.
Ronald K. Lorentzen,
Acting Assistant Secretary for Enforcement and Compliance.

Appendix I

List of Topics Discussed in the Preliminary Decision Memorandum

(1) Summary

(2) Background

(3) Scope of the Order

(4) Respondent Selection

(5) Discussion of the Methodology

a. Preliminary Determination of No Shipments

b. Duty Absorption

c. NME Country Status

d. Separate Rates

(6) Conclusion

[FR Doc. 2016-24488 Filed 10-7-16; 8:45 am]

BILLING CODE 3510-DS-P